DEPARTMENT OF HOUSING AND URBAN DEVELOPMENT

[Docket No. FR-4975-N-27]

Notice of Proposed Information Collection: Comment Request; Application for Housing Assistance Payments; Special Claims Processing

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 24, 2005.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410 or Wayne_Eddins@hud.gov.

FOR FURTHER INFORMATION CONTACT: Lanier Hylton, Director, Office of Housing Assistance and Contract Administration Oversight, Department of Housing and Urban Development, 451 7th Street, SW., Washington, DC 20410, telephone (202) 708-2677 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application for Housing Assistance Payments; Special Claims Processing.

OMB Control Number, if applicable: 2502-182.

Description of the need for the information and proposed use: Vouchers are submitted by owners/agents to HUD or their Contract Administrators (CA)/Performance Based Contract Administrators (PBCA) each month to receive assistance payments for the difference between the gross rent and the total tenant payment for all assisted tenants. In the instance of special claims, vouchers are submitted by owners/agents to HUD or their CA/PBCA to receive an amount of offset unpaid rents, tenant damages, vacancies, and/or debt service losses.

Agency form numbers, if applicable: HUD-52670; HUD-52670A, Part 1; HUD-52670A, Part 2; HUD-52671A, HUD-52671B, HUD-52671C, HUD-52671D.

Estimation of the total numbers of hours needed to prepare the information collection including number of respondents, frequency of response, and hours of response: The estimated total number of hours needed to prepare the information collection is 313,534; the number of respondents is 23,500 generating approximately 300,996 annual responses; the frequency of response is on occasion and monthly; and the estimated time needed to prepare the response varies from 1 hour to 2.66 hours.

Status of the proposed information collection: Revision of a currently approved collection.

Authority: The Paperwork Reduction Act of 1995, 44 U.S.C., Chapter 35, as amended.

Dated: August 18, 2005.
Frank L. Davis,
General Deputy Assistant Secretary for Housing—Deputy Federal Housing Commissioner.

[FR Doc. E5-4636 Filed 8-24-05; 8:45 am]

BILLING CODE 4210-27-P